COMMISSION ON CIVIL RIGHTS

Agenda and Notice of Public Meeting of the Virginia Advisory Committee

Notice is hereby given, pursuant to the provisions of the rules and regulations of the U.S. Commission on Civil Rights (Commission), and the Federal Advisory Committee Act (FACA), that a planning meeting of the Virginia Advisory Committee to the Commission will convene at 10 a.m. and adjourn at 2 p.m. on Monday, December 14, 2009, at the Fairfax Government Center, 12000 Government Center Parkway, Fairfax, Virginia 22035.

The purpose of the planning meeting is to plan for a Spring briefing meeting on “The Impact of State Barriers to Economic Opportunities.”

Members of the public are entitled to submit written comments; the comments must be received in the Eastern Regional Office by January 14, 2010. The address is 624 Ninth Street, NW., Washington, DC 20425. Persons wishing to email their comments, or to present their comments verbally at the meeting, or who desire additional information should contact Alfreda Greene, Secretary, 202-376-7533, TTY202-376-8116, or by e-mail: agreene@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, www.usccr.gov, or to contact the Eastern Regional Office at the above e-mail or street address.

The meeting will be conducted pursuant to the provisions of the rules and regulations of the Commission and FACA.

Dated in Washington, DC, November 23, 2009.
Peter Minarik,
Acting Chief, Regional Programs Coordination Unit.

[FR Doc. E9-28590 Filed 11-30-09; 8:45 am]

BILLING CODE 6335-02-P